DEPARTMENT OF ENERGY

Federal Energy Regulatory Commission

Notice of Application Tendered for Filing With the Commission, Soliciting Additional Study Requests, and Establishing Procedures for Relicensing and a Deadline for Submission of Final Amendments

November 7, 2001.

Take notice that the following hydroelectric application has been filed with the Commission and is available for public inspection.

a. Type of Application: New Minor License.

b. Project No.: 2782-006.

c. Date Filed: October 30, 2001.

d. Applicant: Parowan City.

e. Name of Project: Red Creek Hydroelectric Project.

f. Location: On Red Creek near the town of Paragonah, City of Paragonah, in Iron County, Utah. The project occupies 19.06 acres of lands of the U.S. Department of the Interior, Bureau of Land Management.

g. Filed Pursuant to: Federal Power Act 16 U.S.C. 791 (a)-825(r).

h. Applicant Contact: Travis S. Taylor, P.E., Sunrise Engineering, Inc., 25 East 500 North, Fillmore, Utah 84631, (435) 743-6151.

i. FERC Contact: Gaylord W. Hoisington, (202) 219-2756 or gaylord.hoisington@FERC.fed.us.

j. Deadline for filing additional study requests: December 30, 2001.

All documents (original and eight copies) should be filed with: David P. Boergers, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the internet in lieu of paper. See 18 CFR 385.2001(a)(1)(iii) and the instructions on the Commission's web site (http://www.gov) under the “e-Filing” link.

k. This application is not ready for environmental analysis at this time.

l. The existing Red Creek Hydroelectric Project consists of: (1) (a) The South Fork 8-foot high, 29-foot-long concrete overflow type diversion dam; a radial gate and trash racks incorporating an intake structure connected to a 4,263-foot-long, 10-inch-diameter steel penstock extending from the diversion structure to a pump-house located at the junction of the South Fork and the Red Creek Canyon penstock; and (b) the Red Creek Canyon 8-foot-high, 48-foot-long concrete overflow type diversion dam; a radial gate and trash racks incorporating an intake structure connected to a 16,098-foot-long steel penstock that consists of 7,838-foot, 18-inch-diameter 12 gauge; 1,408-foot, 18-inch-diameter 10-gauge; 2,620-foot, 16-inch-diameter 10-gauge; and 4,232-foot, 16-inch-diameter 7-gauge steel pipe, (2) a pump station, at the junction of the South Fork penstock and the Red Creek penstock, housing a 15 horsepower and a 20 horsepower pump with control equipment, (3) a 27-foot by 32-foot concrete block powerhouse housing a 500-kilowatt generator having a total installed capacity of 500 kW; and (3) appurtenant facilities.

m. A copy of the application is available for inspection. This filing may also be viewed on the web at http://www.ferc.gov using the “RIMS” link-select “Docket #” and follow the instructions (call 202-208-2222 for assistance). A copy is also available for inspection and reproduction at the address in item h above.

n. With this notice, we are initiating consultation with the UTAH STATE HISTORIC PRESERVATION OFFICER (SHPO), as required by § 106, National Historic Preservation Act, and the regulations of the Advisory Council on Historic Preservation, 36 CFR 800.4.

o. Procedural schedule and final amendments: The application will be processed according to the following milestones, some of which may be combined to expedite processing:

Notice of application has been accepted for filing

Notice of NEPA Scoping (unless scoping has already occurred)

Notice of application is ready for environmental analysis

Notice of the availability of the draft NEPA document

Notice of the availability of the final NEPA document

Order issuing the Commission's decision on the application

Final amendments to the application must be filed with the Commission no later than 30 days from the issuance date of the notice of ready for environmental analysis.

Linwood A. Watson, Jr.,
Acting Secretary.

[FR Doc. 01-28470 Filed 11-13-01; 8:45 am]

BILLING CODE 6717-01-P